DEPARTMENT OF COMMERCE

Submission for OMB Review; Comment Request

The Department of Commerce will submit to the Office of Management and Budget (OMB) for clearance the following proposal for collection of information under the emergency provisions of the Paperwork Reduction Act (44 U.S.C. Chapter 35).

Agency: National Technical Information Service (NTIS).

Title: Limited Access Death Master File Subscriber Certification Form (Derived from the Social Security Administration Death Master File).

OMB Control Number: 0692-XXXX.

Form Number(s): NTIS FM161.

Type of Request: Emergency request (new information collection).

Number of Respondents: 700.

Average Hours per Response: 2 hours.

Burden Hours: 1,400.

Needs and Uses: The Bipartisan Budget Act of 2013 (Pub. L. 113-67) (Act) was signed into law on December 26, 2013. Section 203 of the Act prohibits disclosure of DMF information during the three-calendar-year period following death unless the person requesting the information has been certified under a program established by the Secretary of Commerce (Secretary). The Secretary has delegated the authority to carry out the DMF certification program to the Director, NTIS. The certification form was developed to collect information necessary to support the certification process for members of the public to access the DMF.

NTIS requires emergency clearance under the Paperwork Reduction Act in time to be able to implement the certification program on March 26, 2014.

Affected Public: Individuals and households.

Frequency: Annually.

Respondent's Obligation: Annually (resubmit the certification form at time of Limited DMF subscription renewal).

This information collection request may be viewed at http://www.reginfo.gov/public. Follow the instructions to view Department of commerce collections under review.

Written comments and recommendations for the proposed information collection should be sent by March 24, 2014 to OIRA_Submission@omb.eop.gov or fax no. (202) 395-5806.

Dated: March 12, 2014.
Gwellnar Banks,
Management Analyst, Office of the Chief Information Officer.

[FR Doc. 2014-05793 Filed 3-14-14; 8:45 am]

BILLING CODE 3510-04-P